DEPARTMENT OF COMMERCE

National Institute of Standards and Technology

Establishment and Call for Nominations To Serve on the Internet of Things Advisory Board

AGENCY: National Institute of Standards and Technology, Department of Commerce.

ACTION: Establishment and call for nominations to serve on the Internet of Things Advisory Board.

SUMMARY: The Secretary of Commerce (Secretary) established the Internet of Things Advisory Board (IoTAB) in accordance with the requirements of the William M. (Mac) Thornberry National Defense Authorization Act for Fiscal Year 2021, and in accordance with the Federal Advisory Committee Act, as amended (FACA), The IoTAB shall provide advice to the Internet of Things Federal Working Group on matters related to the Internet of Things as specified below. The IoTAB shall submit to the IoTFWG a report that includes any findings or recommendations related to the specific scope below.

The National Institute of Standards and Technology (NIST or Institute) invites and requests nominations of individuals for appointment to the IoTAB. Registered Federal lobbyists may not serve on NIST Federal Advisory Committees in an individual capacity.

DATES: Nominations to serve on the inaugural IoTAB by 5:00 p.m. Eastern Time on February 28, 2022.

ADDRESSES: Please submit nominations to Alicia Chambers, Committee Liaison Officer, National Institute of Standards and Technology, 100 Bureau Drive, MS 1000, Gaithersburg, MD 20899 and Barbara Cuthill, Designated Federal Officer, National Institute of Standards and Technology, 100 Bureau Drive, MS 2000, Gaithersburg, MD 20899. Nominations may also be submitted via email to alicia.chambers@nist.gov and barbara.cuthill@nist.gov.

FOR FURTHER INFORMATION CONTACT: Alison Kahn, Electronics Engineer, National Institute of Standards and Technology, 325 Broadway, MS 671, Boulder, CO 80305. Her email is alison.kahn@nist.gov and phone number is (303) 497-3523.

SUPPLEMENTARY INFORMATION:

Committee Information

The Secretary of Commerce (Secretary) established the Internet of Things Advisory Board (IoTAB) in accordance with the requirements of 9204(b)(5) of the William M. (Mac) Thornberry National Defense Authorization Act for Fiscal Year 2021 (Pub. L. 116-283), and in accordance with the Federal Advisory Committee Act, as amended (FACA), 5 U.S.C. App. The The IoTAB shall submit to the IoTFWG a report that includes any findings or recommendations related to the specific scope below.

Objectives and Duties: The Board shall advise the Internet of Things Federal Working Group convened by the Secretary pursuant to Section 9204(b)(1) of the Act on matters related to the Federal Working Group's activities, as specified below.

The Board shall advise the Federal Working Group with respect to—

a. the identification of any Federal regulations, statutes, grant practices, programs, budgetary or jurisdictional challenges, and other sector-specific policies that are inhibiting, or could inhibit, the development of the Internet of Things;

b. situations in which the use of the Internet of Things is likely to deliver significant and scalable economic and societal benefits to the United States, including benefits from or to—

i. smart traffic and transit technologies;

ii. augmented logistics and supply chains;

iii. sustainable infrastructure;

iv. precision agriculture;

v. environmental monitoring;

vi. public safety; and

vii. health care;

c. whether adequate spectrum is available to support the growing Internet of Things and what legal or regulatory barriers may exist to providing any spectrum needed in the future;

d. policies, programs, or multi-stakeholder activities that—

i. promote or are related to the privacy of individuals who use or are affected by the Internet of Things;

ii. may enhance the security of the Internet of Things, including the security of critical infrastructure;

iii. may protect users of the Internet of Things; and

iv. may encourage coordination among Federal agencies with jurisdiction over the Internet of Things;

e. the opportunities and challenges associated with the use of Internet of Things technology by small businesses; and

f. any international proceeding, international negotiation, or other international matter affecting the Internet of Things to which the United States is or should be a party.

The Board shall submit to the Internet of Things Federal Working Group a report that includes any of its findings or recommendations. The report will be administratively delivered to the Internet of Things Federal Working Group through the Director of the National Institute of Standards and Technology (NIST).

The Board shall set its own agenda in carrying out its duties. The Federal Working Group may suggest topics or items for the Board to study, and the Board shall take those suggestions into consideration in carrying out its duties.

The Board will function solely as an advisory body, in accordance with the provisions of FACA.

Membership: Members of the Board shall be appointed by the Secretary. The Board shall consist of 16 members representing a wide range of stakeholders outside of the Federal Government with expertise relating to the Internet of Things, including: (i) Information and communications technology manufacturers, suppliers, service providers, and vendors; (ii) subject matter experts representing industrial sectors other than the technology sector that can benefit from the Internet of Things, including the transportation, energy, agriculture, and health care sectors; (iii) small, medium, and large businesses; (iv) think tanks and academia; (v) nonprofit organizations and consumer groups; (vi) security experts; (vii) rural stakeholders; and (viii) other stakeholders with relevant expertise, as determined by the Secretary.

The Board members shall serve terms of two years (unless the Board terminates earlier). Vacancies are filled as soon as highly qualified candidates in a needed area of stakeholder interest are identified and available to serve. Members of the Board shall serve as representative members. Full-time or permanent part-time Federal officers or employees will not be appointed to the Board. Members must be citizens of the United States of America.

Members of the Board shall not be compensated for their services. Members of the Board, while attending meetings of the Board away from their homes or regular place of business, may be allowed travel expenses, including per diem in lieu of subsistence, as authorized by Section 5703 of Title 5, United States Code, for individuals intermittently serving in the Government without pay.

Members shall not reference or otherwise utilize their membership on the Board in connection with public statements made in their personal capacities without a disclaimer that the views expressed are their own and do not represent the views of the Board, the Federal Working Group, NIST, or the Department of Commerce.

The Secretary will appoint the Board's Chair from among the approved members in accordance with policies and procedures and, in doing so, shall determine the term of service for the Board's Chair.

Miscellaneous

Meetings will be conducted at least twice each year.

1. IoTAB meetings are open to the public.

2. Meeting will be virtual.

Nomination Information

NIST uses a nomination process to identify candidates for the Board. Nominations are requested through an announcement in the Federal Register and through solicitations through the Federal Working Group, NIST, the Department of Commerce, other Federal agencies, and organizations representing relevant businesses, consumers, communities, and economic sectors in order to ensure a robust and diverse pool of applicants. Candidates may be nominated by their peers or may self-nominate. NIST requests that the nomination includes a resume for the individual that specifically identifies the stakeholder interest of the individual being nominated. Qualifications considered may include, among others: Education, professional experience, and scientific and technical expertise in selected areas. The Director of the Information Technology Laboratory (ITL) recommends candidates for further review to fill vacancies on the Board in the areas of needed stakeholder interest and on the basis of the qualifications, the sectors the candidates may represent and the existing representation on the Board, and other balance factors. The Director of ITL recommends nominees to the Director of NIST, who reviews the recommendation for submission to the Secretary of Commerce. Candidates for the Board are then reviewed by and appointed by the Secretary of Commerce.

The Board members shall serve terms of two years (unless the Board terminates earlier). Vacancies are filled as soon as highly qualified candidates in a needed area of stakeholder interest are identified and available to serve.

The Department of Commerce seeks a broad-based and diverse IoTAB membership.

Alicia Chambers,
NIST Executive Secretariat.

[FR Doc. 2022-00419 Filed 1-12-22; 8:45 am]

BILLING CODE 3510-13-P